DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 1417-1419, dated January 9, 2015) is amended to reflect the reorganization of the National Center for Health Statistics, Office of Public Health Scientific Services, Centers for Disease Control and Prevention.

Section C-B, Organization and Functions, is hereby amended as follows:

Delete in its entirety the title and function statements for the Office of Research and Methodology (CPC13).

After the title and the mission and function statements for the Division of Health and Nutrition Examination Surveys (CPCG) insert the following:

Division of Research and Methodology (CPCH). (1) Participates in the development of policy, long-range plans, and programs for NCHS; (2) plans, coordinates, stimulates and participates in NCHS' basic and applied research program, including but not limited to research in the fields of mathematical statistics, survey design and methodology, mathematics and operations research; (3) formulates statistical standards regarding survey design, data collection, coding, data analysis, data presentation, disclosure limitation, and statistical computing for all NCHS data systems and coordinates activities directed at the implementation and maintenance of these standards; (4) supports all of NCHS through consultation in the fields of mathematical statistics, survey design and methodology, cognition and survey measurement, mathematics and operations research, missing data problems, and data dissemination; (5) consults, collaborates and participates in research projects with HHS, CDC and other Federal organizations, State and local governments, universities, private research organizations, and international agencies and organizations; and (6) provides scientific services and facilities on a reimbursable basis to research and health policy communities, principally through the Center for Questionnaire Design and Evaluation Research and the Research Data Center.

Office of the Division Director (OD) (CPCH1). (1) Participates in the development of policy, long range plans, and programs for NCHS; (2) plans, coordinates, and stimulates the NCHS applied and basic research program which includes the fields of mathematical statistics, survey design and methodology, cognition and survey measurement, and automated statistical and graphical technologies, and conducts research in each of these fields; (3) formulates statistical standards regarding the survey design, data collection, coding, data analysis, data presentation, and statistical computing for all NCHS data systems and coordinates activities directed at the implementation and maintenance of these standards; (4) supports all of the NCHS basic and applied research activities by serving as NCHS' consultants in the fields of mathematical statistics, survey design and methodology, and cognition and survey measurement; (5) consults and collaborates on statistical research projects with PHS agencies and other Federal organizations, State and local governments, universities, private research organizations, and international health agencies; (6) provides administrative, management, and leadership functions for all DRM units.

Collaborating Center for Statistical Research and Survey Design (CPCHB). (1) Conducts basic research in mathematical and statistical theory, analysis, and computation to improve the efficiency, quality, confidentiality, and analytical utility of NCHS' data systems and products; (2) provides statistical consultation and technical assistance to all NCHS data systems on survey methods, quality control, and design of data systems; (3) investigates and develops new and improved statistical methods for analyzing public health data; (4) conducts basic research regarding the impact of sampling and non-sampling errors on statistical estimation and analysis and develops error profiles of sampling and non-sampling error for NCHS' complex data systems; (5) develops and recommends standards for data presentation, analysis, statistical computing, statistical disclosure limitation, survey design and methodology; (6) promotes the publication and dissemination of research on statistical theory, survey design, and methods research; (7) develops sample design and statistical estimation procedures for NCHS surveys; (8) develops statistical models and innovative survey techniques to extend the analytic potential of NCHS complex sample surveys; and (9) plans for future use of Center data through a continuous research program on statistical theory, survey design, statistical and mathematical methods, statistical computing, and data analysis.

Collaborating Center for Questionnaire Design and Evaluation Research (CPCH). (1) Promotes and advances interdisciplinary research on the cognitive aspects of survey methods; (2) conducts basic and applied research on the cognitive aspects of the survey response process in order to improve the efficiency and quality of NCHS' data systems; (3) develops new methods for investigating the cognitive aspects of survey data collection and presentation; (4) promotes the dissemination and implementation of cognitive research methods through publications and presentations; (5) develops and tests NCHS survey data collection instruments using cognitive laboratory methods and related innovative questionnaire evaluation methods; (6) provides consultation and technical assistance to NCHS' data systems on questionnaire design issues and other related data collection procedures; (7) conducts a program of reimbursable applied and basic research, technical assistance, and consultation on questionnaire design and cognitive aspects of survey methods.

Research Data Center (CPCHD). (1) Facilitates the access of restricted use data to the research community; (2) conducts research in areas related to the development, linkage, analysis, and dissemination of survey data; (3) provides consultation and technical assistance to programs on data collection procedures, confidentiality, disclosure limitation, data linkage, and dissemination; (4) serves as NCHS' primary venue for disseminating restricted use data to the research community; (5) supports scientific research on disclosure limitation of surveys using micro-data files.

James Seligman,
Acting Chief Operating Officer, Centers for Disease Control and Prevention.

[FR Doc. 2015-14808 Filed 6-16-15; 8:45 am]

BILLING CODE 4160-18-P